DEPARTMENT OF ENERGY

Federal Energy Regulatory Commission

Combined Notice of Filings #1

Take notice that the Commission received the following electric corporate filings:

Docket Numbers: EC24-24-000.

Applicants: Georgia Power Company.

Description: Application for Authorization Under Section 203 of the Federal Power Act of Georgia Power Company.

Filed Date: 12/12/23.

Accession Number: 20231212-5177.

Comment Date: 5 p.m. ET 1/2/24.

Take notice that the Commission received the following Complaints and Compliance filings in EL Dockets:

Docket Numbers: EL24-40-000.

Applicants: City of Tacoma, Department of Public Utilities, Light Division Tacoma Power v. California Independent System Operator Corporation.

Description: Complaint of City of Tacoma, Department of Public Utilities, Light Division d/b/a Tacoma Power, v. California Independent System Operator Corporation.

Filed Date: 12/12/23.

Accession Number: 20231212-5029.

Comment Date: 5 p.m. ET 1/2/24.

Take notice that the Commission received the following electric rate filings:

Docket Numbers: ER10-2732-022; ER10-2733-022; ER10-2734-022; ER10-2736-022; ER10-2737-022; ER10-2741-022; ER10-2749-023; ER10-2752-022; ER12-2492-018; ER12-2493-018; ER12-2494-018; ER12-2495-018; ER12-2496-018; ER16-2455-012; ER16-2456-012; ER16-2457-012; ER16-2459-012; ER18-1404-008; ER19-2096-005.

Applicants: Emera Energy LNG, LLC, NS Power Energy Marketing Inc., Emera Energy Services Subsidiary No. 15 LLC, Emera Energy Services Subsidiary No. 13 LLC, Emera Energy Services Subsidiary No. 12 LLC, Emera Energy Services Subsidiary No. 11 LLC, Emera Energy Services Subsidiary No. 10 LLC, Emera Energy Services Subsidiary No. 9 LLC, Emera Energy Services Subsidiary No. 8 LLC, Emera Energy Services Subsidiary No. 7 LLC, Emera Energy Services Subsidiary No. 6 LLC, Emera Energy Services Subsidiary No. 5 LLC, Emera Energy Services Subsidiary No. 4 LLC, Emera Energy Services Subsidiary No. 3 LLC, Emera Energy Services Subsidiary No. 2 LLC, Emera Energy Services Subsidiary No. 1 LLC, Emera Energy U.S. Subsidiary No. 2, Inc., Emera Energy U.S. Subsidiary No. 1, Inc., Emera Energy Services, Inc.

Description: Triennial Market Power Analysis for Southeast Region of Emera Energy Services, Inc., et. al.

Filed Date: 12/12/23.

Accession Number: 20231212-5111.

Comment Date: 5 p.m. ET 2/12/24.

Docket Numbers: ER18-548-002; ER18-547-002.

Applicants: Decatur Energy Center, LLC, CP Energy Marketing (US) Inc.

Description: Triennial Market Power Analysis for Southeast Region of CP Energy Marketing (US) Inc., et. al.

Filed Date: 12/12/23.

Accession Number: 20231212-5129.

Comment Date: 5 p.m. ET 2/12/24.

Docket Numbers: ER23-2843-001.

Applicants: PJM Interconnection, L.L.C.

Description: Tariff Amendment: Response to Commission's 11/9/23 Deficiency Letter in ER23-2843 to be effective 8/16/2023.

Filed Date: 12/11/23.

Accession Number: 20231211-5161.

Comment Date: 5 p.m. ET 1/2/24.

Docket Numbers: ER24-621-000.

Applicants: PJM Interconnection, L.L.C.

Description: § 205(d) Rate Filing: Amendment to 12 Service Agreements re: FirstEnergy Reorganization to be effective 12/31/9998.

Filed Date: 12/11/23.

Accession Number: 20231211-5149.

Comment Date: 5 p.m. ET 1/2/24.

Docket Numbers: ER24-622-000.

Applicants: PJM Interconnection, L.L.C.

Description: § 205(d) Rate Filing: Amendment to ISA, Service Agreement No. 6588; Queue AE2-118 to be effective 2/10/2024.

Filed Date: 12/11/23.

Accession Number: 20231211-5163.

Comment Date: 5 p.m. ET 1/2/24.

Docket Numbers: ER24-623-000.

Applicants: PJM Interconnection, L.L.C.

Description: Tariff Amendment: Notice of Cancellation of WMPA, SA No. 5804; Queue No. AF2-280 to be effective 1/15/2024.

Filed Date: 12/12/23.

Accession Number: 20231212-5103.

Comment Date: 5 p.m. ET 1/2/24.

Docket Numbers: ER24-624-000.

Applicants: PJM Interconnection, L.L.C.

Description: Tariff Amendment: Notice of Cancellation of WMPA, SA No. 5843; Queue No. AF2-287 to be effective 1/15/2024.

Filed Date: 12/12/23.

Accession Number: 20231212-5108.

Comment Date: 5 p.m. ET 1/2/24.

Docket Numbers: ER24-625-000.

Applicants: PJM Interconnection, L.L.C.

Description: Tariff Amendment: Notice of Cancellation of WMPA, SA No. 5752; Queue No. AF2-432 to be effective 1/15/2024.

Filed Date: 12/12/23.

Accession Number: 20231212-5112.

Comment Date: 5 p.m. ET 1/2/24.

Docket Numbers: ER24-626-000.

Applicants: Chevelon Butte RE LLC.

Description: § 205(d) Rate Filing: Chevelon Butte RE LLC Shared Facilities Agreement to be effective 12/13/2023.

Filed Date: 12/12/23.

Accession Number: 20231212-5119.

Comment Date: 5 p.m. ET 1/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 12, 2023.
Kimberly D. Bose,
Secretary.

[FR Doc. 2023-27753 Filed 12-15-23; 8:45 am]

BILLING CODE 6717-01-P